DEPARTMENT OF THE INTERIOR

[FWS-R4-ES-2020-N106; FVHC98220410150-XXX-FF04H00000]

Louisiana Trustee Implementation Group Deepwater Horizon Oil Spill Draft Restoration Plan and Environmental Assessment #7: Wetlands, Coastal, and Nearshore Habitats; and Birds

AGENCY: Department of the Interior.

ACTION: Notice of availability; request for public comments.

SUMMARY: In accordance with the Oil Pollution Act of 1990 (OPA); the National Environmental Policy Act of 1969 (NEPA); the Final Programmatic Damage Assessment Restoration Plan and Final Programmatic Environmental Impact Statement (Final PDARP/PEIS) and Record of Decision; and the Consent Decree, the federal and state natural resource trustee agencies for the Louisiana Trustee Implementation Group (LA TIG) have prepared the Louisiana Trustee Implementation Group Draft Restoration Plan #7 and Environmental Assessment: Wetlands, Coastal and Nearshore Habitats; and Birds (RP/EA #7). In the Draft RP/EA #7, the LA TIG proposes projects to help restore bird habitat and marshes injured as a result of the Deepwater Horizon (DWH) oil spill in the Louisiana Restoration Area under the “Wetlands, Coastal and Nearshore Habitats” and “Birds” restoration types described in the Final PDARP/PEIS. The approximate cost to implement the LA TIG's proposed project with five preferred alternatives is $234,100,000. We invite public comments on the Draft RP/EA #7.

DATES: We will consider public comments on the Draft RP/EA #7 received on or before September 22, 2020.

The LA TIG will host a public webinar on September 3, 2020, at 3:00 Central. The public may register for the webinar at https://attendee.gotowebinar.com/register/6495772168532544525. After registering, participants will receive a confirmation email with instructions for joining the webinar. Instructions for commenting will be provided during the webinar. Shortly after the webinar is concluded, the presentation material will be posted on the web at https://www.gulfspillrestoration.noaa.gov/restoration-areas/louisiana.

ADDRESSES: Obtaining Documents: You may download the Draft RP/EA #7 from either of the following websites:

• https://www.doi.gov/deepwaterhorizon

• https://www.gulfspillrestoration.noaa.gov/restoration-areas/louisiana

Alternatively, you may request a CD of the Draft RP/EA (see FOR FURTHER INFORMATION CONTACT). Copies of the Draft RP/EA are also available for review during the public comment period at the locations listed in the following table.

Library | Address | City | Zip
St. Tammany Parish Library | 310 W. 21st Avenue | Covington | 70433
Terrebonne Parish Library | 151 Library Drive | Houma | 70360
New Orleans Public Library, Louisiana Division | 219 Loyola Avenue | New Orleans | 70112
East Baton Rouge Parish Library | 7711 Goodwood Boulevard | Baton Rouge | 70806
Jefferson Parish Library, East Bank Regional Library | 4747 W. Napoleon Avenue | Metairie | 70001
Jefferson Parish Library, West Bank Regional Library | 2751 Manhattan Boulevard | Harvey | 70058
Plaquemines Parish Library | 8442 Highway 23 | Belle Chasse | 70037
St. Bernard Parish Library | 1125 E. St. Bernard Highway | Chalmette | 70043
St. Martin Parish Library | 201 Porter Street | St. Martinville | 70582
Alex P. Allain Library | 206 Iberia Street | Franklin | 70538
Vermilion Parish Library | 405 E. St. Victor Street | Abbeville | 70510
Martha Sowell Utley Memorial Library | 314 St. Mary Street | Thibodaux | 70301
South Lafourche Public Library | 16241 E. Main Street | Cut Off | 70345
Calcasieu Parish Public Library Central Branch | 301 W. Claude Street | Lake Charles | 70605
Iberia Parish Library | 445 E. Main Street | New Iberia | 70560
Mark Shirley, LSU AgCenter | 1105 West Port Street | Abbeville | 70510

Submitting Comments: You may submit comments by one of the following methods:

• Via the Web: http://www.gulfspillrestoration.noaa.gov/restoration-areas/louisiana.

• Via U.S. Mail: U.S. Fish and Wildlife Service, P.O. Box 29649, Atlanta, GA 30345. To be considered, mailed comments must be postmarked on or before the comment deadline given in DATES.

• During the public webinar: Written comments may be provided by the public during the webinar. Webinar information is provided in DATES.

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Louisiana Restoration Area are chosen and managed by the LA TIG. The LA TIG is composed of the following Trustees: State of Louisiana Coastal Protection and Restoration Authority, Oil Spill Coordinator's Office, Departments of Environmental Quality, Wildlife and Fisheries, and Natural Resources; DOI; NOAA; EPA; and USDA.

Background

The Final PDARP/PEIS provides for TIGs to propose restoration projects using a planning process that involves phasing restoration projects across multiple restoration plans. A TIG may propose funding a planning phase (e.g., initial engineering and design (E&D)) in a restoration plan for a conceptual project (phase 1). This allows the TIG to develop information needed to fully consider a subsequent implementation phase of the project in a future restoration plan (phase 2). In the Draft RP/EA #7, the LA TIG considers alternatives to fund E&D for conceptual projects and also to fund projects for implementation.

Overview of the LA TIG Draft RP/EA #7

The Draft RP/EA #7 provides the LA TIG's analysis of alternatives under the “Wetlands, Coastal, and Nearshore Habitats” restoration type and the “Birds” restoration type. Under the “Wetlands, Coastal and Nearshore Habitats” restoration type, the preferred alternatives include a conceptual project that would undergo E&D if selected, and two alternatives that are analyzed for full implementation if selected. These alternatives are: (1) Bird's Foot Delta Hydrologic Restoration project (E&D), (2) Terrebonne Basin Ridge and Marsh Creation Project: Bayou Terrebonne Increment (Terrebonne project) (full implementation) and (3) Grande Cheniere Ridge Marsh Creation (full implementation).

The Terrebonne project was approved and funded for E&D in the 2017 Louisiana Trustee Implementation Group Final Restoration Plan #1: Restoration of Wetlands, Coastal, and Nearshore Habitats; Habitat Projects on Federally Managed Lands; and Birds. The other, Bayou Grand Cheniere Ridge and Marsh Creation project underwent E&D through a separate funding process. Both projects have reached a stage in their E&D where sufficient information has been developed for analysis under NEPA and the OPA NRDA regulations.

Under the “Birds” restoration type, the LA TIG proposes conceptual projects that would undergo E&D if selected for funding. The preferred “Birds” alternatives are (1) Isle au Pitre Restoration, and (2) Terrebonne Houma Navigation Canal Island Restoration.

Next Steps

As described above in DATES, the Trustees will host a public webinar to facilitate the public review and comment process. After the public comment period ends, the Trustees will consider and address the comments received before issuing a final RP/EA #7.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for RP/EA #7 can be viewed electronically at https://www.doi.gov/deepwaterhorizon/adminrecord.

Authority

The authority for this action is the Oil Pollution Act of 1990 (33 U.S.C. 2701 et seq.), its implementing NRDA regulations found at 15 CFR part 990, and the National Environmental Policy Act of 1969 (42 U.S.C. 4321 et seq.) and its implementing regulations found at 40 CFR 1500-1508.

Mary Josie Blanchard,
Department of the Interior, Director of Gulf of Mexico Restoration.

[FR Doc. 2020-18205 Filed 8-19-20; 8:45 am]

BILLING CODE 4333-15-P